DEPARTMENT OF LABOR

Agency Information Collection Activities; Comment Request; Occupational Noise Exposure; Correction

ACTION: Notice of availability; Correction.

SUMMARY: The Department of Labor (DOL) is correcting a notice that appeared in the Federal Register on October 19, 2021. Subsequent to publication of the notice, the DOL discovered that the Office of Management and Budget (OMB) Control Number listed in the Supplementary Information section was listed incorrectly. DOL is issuing this correction to provide the correct OMB Control Number.

DATES: This correction is effective on November 1, 2021.

FOR FURTHER INFORMATION CONTACT: Crystal Rennie by telephone at 202-693-0456 or by email at DOL_PRA_PUBLIC@dol.gov.

SUPPLEMENTARY INFORMATION: In FR. Doc. 2021-22744 appearing at 86 FR 57861 in the Federal Register of Tuesday, October 19, 2021, the following correction is made:

Correction

1. On page 57861, in the SUPPLEMENTARY INFORMATION section, under the section titled OMB Control Number, the OMB Control Number should list, “1219-0120”.

Crystal Rennie,
Senior PRA Analyst.

[FR Doc. 2021-23702 Filed 10-29-21; 8:45 am]

BILLING CODE 4510-43-P